DEPARTMENT OF THE INTERIOR

Office of the Secretary

[15XD5141GM DGM000000.000000 6100.241A0 DN18000000]

Proposed Appointment to the National Indian Gaming Commission

AGENCY: Office of the Secretary, Interior.

ACTION: Notice.

SUMMARY: The Indian Gaming Regulatory Act provides for a three-person National Indian Gaming Commission. One member, the Chair, is appointed by the President with the advice and consent of the Senate. Two associate members are appointed by the Secretary of the Interior. Before appointing members, the Secretary is required to provide public notice of a proposed appointment and allow a comment period. Notice is hereby given of the proposed appointment of E. Sequoyah Simermeyer as an associate member of the National Indian Gaming Commission for a term of 3 years.

DATES: Submit comments on or before October 30, 2015.

ADDRESSES: Send comments to the Director, Office of the Executive Secretariat and Regulatory Affairs, U.S. Department of the Interior, 1849 C Street NW., Mail Stop 7328, Washington, DC 20240.

FOR FURTHER INFORMATION CONTACT: Mr. Michael Hoenig, National Indian Gaming Commission, c/o Department of the Interior, 1849 C Street NW., Mail Stop 1621, Washington, DC 20240; telephone (202) 632-7003; facsimile (202) 632-7066.

SUPPLEMENTARY INFORMATION: The Indian Gaming Regulatory Act, 25 U.S.C. 2701 et. seq., established the National Indian Gaming Commission (Commission), composed of three full-time members. Commission members serve for a term of 3 years. The Chair is appointed by the President with the advice and consent of the Senate. The two associate members are appointed by the Secretary of the Interior. Before appointing an associate member to the Commission, the Secretary is required to “publish in the Federal Register the name and other information the Secretary deems pertinent regarding a nominee for membership on the Commission and . . . allow a period of not less than thirty days for receipt of public comments.” See 25 U.S.C. 2704(b)(2)(B).

The Secretary proposes to appoint E. Sequoyah Simermeyer as an associate member of the Commission for a term of 3 years. Mr. Simermeyer is well qualified to be a member of the National Indian Gaming Commission by virtue of his extensive background and experience in a broad spectrum of Native American issues.

In his current position at the United States Senate Committee on Indian Affairs, Mr. Simermeyer has provided legislative proposals, committee reports, and extensive briefing materials on matters that impact Federal relations with American Indians, Alaska Natives, and tribal governments. He has further experience serving as the deputy chief of staff and counselor to the Assistant Secretary for Indian Affairs. Mr. Simermeyer has taught undergraduate and graduate courses pertaining to Indian law and leadership development, and has served on the board of many law associations, often serving as president. His leadership and community outreach has aided in the educational and social service needs of Native Americans.

Mr. Simermeyer's wide experience in community service, legal affairs, and organizational administration make him a highly qualified candidate for membership on the National Indian Gaming Commission. His broad perspective as a result of this experience will enrich the Commission's deliberations and contribute to informed decisions that promote economic well-being.

Mr. Simermeyer does not have any financial interests that would make him ineligible to serve on the Commission under 25 U.S.C. 2704(b)(5)(B) or (C).

Any person wishing to submit comments on this proposed appointment of E. Sequoyah Simermeyer may submit written comments to the address listed above. Comments must be received by October 30, 2015.

Sally Jewell,
Secretary of the Interior.

[FR Doc. 2015-24701 Filed 9-29-15; 8:45 am]

BILLING CODE 4334-63-P